DEPARTMENT OF TRANSPORTATION

Research and Special Programs Administration

49 CFR Part 192

[Docket No. RSPA-02-13208; Amdt. 192-96]

RIN 2137-AD01

Pipeline Safety: Pressure Limiting and Regulating Stations

AGENCY: Research and Special Programs Administration (RSPA), DOT.

ACTION: Direct final rule.

SUMMARY: In the Federal Register of September 15, 2003, RSPA published a final rule concerning the operation and capacity of existing pressure limiting and regulating stations on gas pipelines. The rule inadvertently established a pressure limit that could require a reduction in the operating pressure of some pipelines and be impracticable for others to meet. This direct final rule establishes an appropriate pressure limit to avoid these unintended results.

DATES: This direct final rule goes into effect September 14, 2004. If RSPA does not receive any adverse comment ¹ or notice of intent to file an adverse comment by July 16, 2004, it will publish a confirmation document within 15 days after the close of the comment period. The confirmation document will announce that this direct final rule will go into effect on the date stated above or at least 30 days after the document is published, whichever is later. If RSPA receives an adverse comment, it will publish a timely notice to confirm that fact and withdraw this direct final rule. RSPA may then incorporate changes based on the adverse comment into a subsequent direct final rule or may publish a notice of proposed rulemaking.

¹ An adverse comment is one which explains why the rule would be inappropriate, including a challenge to the rule's underlying premise or approach, or would be ineffective or unacceptable without a change. Comments that are frivolous or insubstantial will not be considered adverse under this procedure. A comment recommending a rule change in addition to the rule will not be considered an adverse comment, unless the commenter states why the rule would be ineffective without the additional change. (49 CFR 190.339(c))

ADDRESSES: You may submit written comments directly to the dockets by any of the following methods:

• Mail: Dockets Facility, U.S. Department of Transportation, Room PL-401, 400 Seventh Street, SW., 20590-0001. Anyone wanting confirmation of mailed comments must include a self-addressed stamped postcard.

• Hand delivery or courier: Room PL-401, 400 Seventh Street, SW., Washington, DC. The Dockets Facility is open from 10 a.m. to 5 p.m., Monday through Friday, except Federal holidays.

• Web site: Go to http://dms.dot.gov, click on “Comment/Submissions” and follow instructions at the site.

All written comments should identify the gas or liquid docket number and notice number stated in the heading of this notice.

Docket access. For copies of this notice or other material in the dockets, you may contact the Dockets Facility by phone (202-366-9329) or visit the facility at the above street address. For Web access to the dockets to read and download filed material, go to http://dms.dot.gov/search. Then type in the last four digits of the gas or liquid docket number shown in the heading of this notice, and click on “Search.”

Privacy Act Information. Anyone can search the electronic form of all comments filed in any of our dockets by the name of the individual submitting the comment (or signing the comment, if submitted for an association, business, labor union, etc.). You may review DOT's complete Privacy Act Statement in the April 11, 2000, issue of the Federal Register (65 FR 19477) or go to http://dms.dot.gov.

Anyone is able to search the electronic form of all comments received into any of our dockets by the name of the individual submitting the comment (or signing the comment, if submitted on behalf of an association, business, labor union, etc.). You may review DOT's complete Privacy Act Statement in the Federal Register published on April 11, 2000 (volume 65, number 70; pages 19477-78), or you may visit http://dms.dot.gov.

FOR FURTHER INFORMATION CONTACT: L.M. Furrow by phone at 202-366-4559, by fax at 202-366-4566, by mail at U.S. Department of Transportation, 400 Seventh Street, SW., Washington, DC 20590, or by e-mail at buck.furrow@rspa.dot.gov.

SUPPLEMENTARY INFORMATION:

Need To Revise Regulations on Existing Pressure Limiting and Regulating Stations

Last September RSPA amended a regulation (49 CFR 192.739(c)) that applies to existing pressure limiting and regulating stations (68 FR 53901; Sept. 15, 2003). The amendment established an upper limit on the control or relief pressure in pipelines these stations protect against accidental overpressure. These limits are the same as part 192 requires for newly installed pressure limiting and regulating stations. As a consequence, § 192.739(c) now requires (through a cross-reference to § 192.201(a)) that the control or relief pressure on steel pipelines whose maximum allowable operating pressure (MAOP) is 60 psig or more may not exceed the pressure that produces a hoop stress of 75 percent of the specified minimum yield strength (SMYS) of the pipe.

For new steel pipelines, 75 percent of SMYS is an appropriate limit on control or relief pressure because part 192 does not allow these pipelines to operate at a hoop stress greater than 72 percent of SMYS. However, § 192.619(c) allows certain existing pipelines in rural areas to operate at pressures experienced before part 192 took effect. On some of these pipelines, current operating pressures produce hoop stresses greater than 72 percent of SMYS. Consequently, Duke Energy, an operator of interstate gas transmission lines, alerted RSPA that amended § 192.739(c) could be construed to require a reduction in the operating pressure of pipelines operating at hoop stresses greater than 72 percent of SMYS. In addition, for other pipelines operating under § 192.619(c), operators may not be able to calculate hoop stress as a percentage of SMYS, either because a factor needed to calculate hoop stress (e.g., wall thickness) is unknown or SMYS is unknown. In such cases, compliance with the 75-percent-of-SMYS limit would be impracticable.

Because these results were not intended, RSPA is revising § 192.739(c). The revision establishes an appropriate control or relief pressure limit for the affected pipelines (i.e., steel pipelines whose MAOP determined under § 192.619(c) is 60 psig or more, with corresponding hoop stress greater than 72 percent of SMYS or unknown as a percentage of SMYS). Under revised § 192.739(c), if the MAOP produces a hoop stress greater than 72 percent of SMYS, the control or relief pressure limit is MAOP plus 4 percent. This pressure limit corresponds to the 75-percent-of-SMYS limit for new steel pipelines under § 192.201(a)(2)(i). MAOP plus 4 percent is also the limit on control or relief pressure that the American Society of Mechanical Engineers prescribes for new steel pipelines that operate at hoop stresses greater than 72 percent of SMYS (Section 845.411(a), ASME B31.8-1999 code, “Gas Transmission and Distribution Piping Systems”). If the hoop stress is unknown as a percentage of SMYS (either hoop stress or SMYS is unknown), operators will have to determine a safe control or relief pressure limit after considering the operating and maintenance history of the protected pipeline and its MAOP. Operators' decisions on safe pressure limits must be explained in their operating and maintenance procedures, which are subject to review by government inspectors.

RSPA made a similar amendment to § 192.743(a), requiring the capacity of relief devices at existing pressure limiting and regulating stations to be consistent with the pressure limits of § 192.201(a) (68 FR 53901; Sept. 15, 2003). Because of the 75-percent-of-SMYS limit discussed above, Duke Energy alerted RSPA that § 192.743(a) also could be construed to require a reduction in the operating pressure of some pipelines operating at hoop stresses greater than 72 percent of SMYS. In addition, compliance with § 192.743(a) would be impracticable if hoop stress as a percentage of SMYS were unknown. To avoid these unintended results, RSPA is revising § 192.743(a) in the same manner as § 192.739(c).

Regulatory Analyses and Notices

Executive Order 12866 and DOT Policies and Procedures

RSPA does consider this Direct Final Rule to be a significant regulatory action under section 3(f) of Executive Order 12866 (58 FR 51735; Oct. 4, 1993). Therefore, the Office of Management and Budget (OMB) has not received a copy of this rulemaking to review. RSPA also does not consider this rulemaking to be significant under DOT regulatory policies and procedures (44 FR 11034; February 26, 1979).

The regulations being revised by this Direct Final Rule, §§ 192.739(c) and 192.743(a), were published in the Federal Register of September 15, 2003. RSPA prepared a Regulatory Evaluation of the costs and benefits of those regulations, and a copy is in the docket. The evaluation concluded there should be no cost for operators to comply with the regulations, and possibly a cost savings. Because this Direct Final Rule merely removes an unintended impact of the regulations, RSPA does not believe that any further evaluation of costs and benefits is needed. If you disagree with this conclusion, please provide information to the public docket as described above.

Regulatory Flexibility Act

Under the Regulatory Flexibility Act (5 U.S.C. 601 et seq.), RSPA must consider whether its rulemakings have a significant economic impact on a substantial number of small entities. The regulations being revised by this Direct Final Rule are consistent with customary practices in the pipeline industry. Therefore, based on the facts available about the anticipated impacts of this rulemaking, I certify that this rulemaking will not have a significant impact on a substantial number of small entities. If you have any information that this conclusion about the impact on small entities is not correct, please provide that information to the public docket as described above.

Executive Order 13175

This Direct Final Rule has been analyzed in accordance with the principles and criteria contained in Executive Order 13175, “Consultation and Coordination with Indian Tribal Governments.” Because the Direct Final Rule does not significantly or uniquely affect the communities of the Indian tribal governments and would not impose substantial direct compliance costs, the funding and consultation requirements of Executive Order 13175 do not apply.

Paperwork Reduction Act

This Direct Final Rule does not impose any new information collection requirements.

Unfunded Mandates Reform Act of 1995

This Direct Final Rule does not impose unfunded mandates under the Unfunded Mandates Reform Act of 1995. It would not result in costs of $100 million or more to either State, local, or tribal governments, in the aggregate, or to the private sector, and would be the least burdensome alternative that achieves the objective of the rule.

National Environmental Policy Act

For purposes of the National Environmental Policy Act (42 U.S.C. 4321 et seq.), RSPA prepared an Environmental Assessment of the regulations being revised by this Direct Final Rule, and a copy is in the docket. The assessment determined that because the regulations are consistent with customary practices, they do not significantly affect the quality of the human environment. Because this Direct Final Rule merely removes an unintended impact of the regulations, RSPA does not believe that any further assessment of environmental impact is needed. If you disagree with this conclusion, please submit your comments to the docket as described above.

Executive Order 13132

This Direct Final Rule has been analyzed in accordance with the principles and criteria contained in Executive Order 13132 (“Federalism”). The Direct Final Rule does not have any provision that (1) has substantial direct effects on the States, the relationship between the national government and the States, or the distribution of power and responsibilities among the various levels of government; (2) imposes substantial direct compliance costs on State and local governments; or (3) preempts state law. Therefore, the consultation and funding requirements of Executive Order 13132 do not apply.

Executive Order 13211

This rulemaking is not a significant energy action under Executive Order 13211. It is not a significant regulatory action under Executive Order 12866 and is not likely to have a significant adverse effect on the supply, distribution, or use of energy. Further, this rulemaking has not been designated by the Administrator of the Office of Information and Regulatory Affairs as a significant energy action.

List of Subjects in 49 CFR Part 192

Natural gas, Pipeline safety, Reporting and recordkeeping requirements.

Accordingly, 49 CFR part 192 is amended as follows:

PART 192—TRANSPORTATION OF NATURAL AND OTHER GAS BY PIPELINE: MINIMUM FEDERAL SAFETY STANDARDS

1. The authority citation for part 192 continues to read as follows:

Authority: 49 U.S.C. 5103, 60102, 60104, 60108, 60109, 60110, 60113, and 60118; and 49 CFR 1.53.

2. Amend § 192.739 as follows:

a. Redesignate the undesignated introductory text and paragraphs (a) through (d) as paragraph (a) introductory text, and paragraphs (a)(1) through (a)(4), respectively;

b. Revise newly designated paragraph (a)(3) and add paragraph (b) to read as follows:

§ 192.739 Pressure limiting and regulating stations: Inspection and testing.

(a) * * *

(3) Except as provided in paragraph (b) of this section, set to control or relieve at the correct pressure consistent with the pressure limits of § 192.201(a); and

* * * * *

(b) For steel pipelines whose MAOP is determined under § 192.619(c), if the MAOP is 60 psi (414 kPa) gage or more, the control or relief pressure limit is as follows:

If the MAOP produces a hoop stress that is: | Then the pressure limit is:
Greater than 72 percent of SMYS | MAOP plus 4 percent.
Unknown as a percentage of SMYS | A pressure that will prevent unsafe operation of the pipeline considering its operating and maintenance history and MAOP.

3. Revise § 192.743(a) to read as follows:

§ 192.743 Pressure limiting and regulating stations: Capacity of relief devices.

(a) Pressure relief devices at pressure limiting stations and pressure regulating stations must have sufficient capacity to protect the facilities to which they are connected. Except as provided in § 192.739(b), the capacity must be consistent with the pressure limits of § 192.201(a). This capacity must be determined at intervals not exceeding 15 months, but at least once each calendar year, by testing the devices in place or by review and calculations.

* * * * *

Issued in Washington, DC, on May 5, 2004.
Samuel G. Bonasso,
Deputy Administrator.

[FR Doc. 04-11005 Filed 5-14-04; 8:45 am]

BILLING CODE 4910-60-P